FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012309-001.

Title: WWL/EUKOR/ARC/GLOVIS Cooperative Working Agreement.

Parties: Wallenius Wilhelmsen Logistics AS; EUKOR Care Carriers Inc.; Hyundai Glovis Co. Ltd.; and American Roll-on Roll-off Carrier, LLC.

Filing Party: Wayne Rohde, Esq; Cozen O'Connor; 1200 19th Street NW.; Washington, DC 20036.

Synopsis: The amendment adds a new Article 5.2 which authorizes the parties or any two or more of them to solicit bids for contracts covering the provision of tug services at ports in the trade and/or to negotiate and enter into joint and/or individual contracts with respect to such services. The amendment makes corresponding changes to Article 2 and 5.3.

Agreement No.: 012448.

Title: ECUS/ECSA Slot Exchange Agreement.

Parties: Alianca Navegacao e Logistics Ltds.; Companhia Libra de Navegacao, Hapag-Lloyd AG; Hamburg Sud; and MSC Mediterranean Shipping Company S.A.

Filing Party: Wayne Rohde, Esq; Cozen O'Connor; 1200 19th Street NW.; Washington, DC 20036.

Synopsis: The Agreement authorizes the Parties to FMC Agreement No. 012297 on the one hand and MSC Mediterranean Shipping Company SA on the other hand to exchange space on their respective services in the trade between the U.S. Atlantic Coast and ports in the Bahamas, Dominican Republic, Panama, Brazil, Uruguay and Argentina during the slack season. The Parties request expedited review.

Agreement No.: 012449.

Title: Global Ports Group Agreement.

Parties: APM Terminals Management B.V.; DP World Limited; Hutchison Port Holdings Limited; Port of Rotterdam Authority; PSA International Pte. Ltd.; and Shanghai International Port (Group) Co. Ltd.

Filing Party: Michael Scanlon, Esq.; K & L Gates LLP; 1601 K Street NW.; Washington, DC 20006-1600.

Synopsis: The Agreement authorizes the Parties to discuss, exchange information, and coordinate on issues affecting the efficiency and effectiveness of the container port industry.

Agreement No.: 012450.

Title: Hoegh Autoliners and NYK Space Charter Agreement.

Parties: Hoegh Autliners AS and Nippon Yusen Kaisha.

Filing Party: Kristen Chung, Esq.; NYK Line (North America) Inc.; 300 Lighting Way, 5th Floor; Secaucus, NJ 07094.

Synopsis: The Agreement authorizes Hoegh and NYK to share vessels and vessel space in the trade between ports and places in the U.S. and ports and places in a foreign country.

Agreement No.: 012451.

Title: Memorandum of Agreement of July 1, 2015 Concerning Assessments to Provide Los Angeles Crane Operator Make Whole Pay.

Parties: Pacific Maritime Association and International Longshore and Warehouse Union.

Filing Party: David F. Smith, Esq.; Cozen O'Connor; 1200 19th Street, NW.; Washington, DC 20036.

Synopsis: The Agreement provides for payments to be made to certain Crane Operators in Los Angeles at the equivalent Crane Operator prevailing daily rate of pay regardless of the job they work and establishes the particular conditions under which PMA shall assess its members to provide for these payments.

Agreement No.: 201103-011.

Title: Memorandum Agreement of the Pacific Maritime Association of December 14, 1983 Concerning Assessments to Pay ILWU-PMA Employee Benefit Costs, As Amended, Through May 12, 2011.

Parties: Pacific Maritime Association and International Longshore and Warehouse Union.

Filing Party: David F. Smith, Esq.; Cozen O'Connor; 1200 19th Street, NW.; Washington, DC 20036.

Synopsis: The amendment revises how the man-hour base assessment will be calculated.

By Order of the Federal Maritime Commission.
Dated: December 16, 2016.
Rachel E. Dickon,
Assistant Secretary.

[FR Doc. 2016-30752 Filed 12-20-16; 8:45 am]

BILLING CODE 6731-AA-P